ENVIRONMENTAL PROTECTION AGENCY

[FRL-8275-6]

Science Advisory Board Staff Office; EPA Clean Air Scientific Advisory Committee (CASAC); CASAC Ozone Review Panel; Notification of a Public Advisory Committee Meeting (Teleconference)

AGENCY: Environmental Protection Agency (EPA).

ACTION: Notice.

SUMMARY: The Environmental Protection Agency (EPA or Agency) Science Advisory Board (SAB) Staff Office is announcing a public teleconference of the Clean Air Scientific Advisory Committee (CASAC) Ozone Review Panel (CASAC Panel) to review EPA's Final Review of the National Ambient Air Quality Standards for Ozone: Policy Assessment of Scientific and Technical Information (Final Ozone Staff Paper, January 2007) on March 5, 2007 from 1 to 5 p.m. (Eastern Time).

FOR FURTHER INFORMATION CONTACT: Mr. Fred Butterfield, Designated Federal Officer (DFO). Mr. Butterfield may be contacted at the EPA Science Advisory Board (1400F), U.S. Environmental Protection Agency, 1200 Pennsylvania Avenue, NW., Washington, DC 20460; or via telephone/voice mail: (202) 343-9994; fax: (202) 233-0643; or e-mail at: butterfield.fred@epa.gov. General information concerning the CASAC or the EPA SAB can be found on the EPA Web site at: http://www.epa.gov/sab.

SUPPLEMENTARY INFORMATION:

Background

The EPA Science Advisory Board Staff Office announced a public teleconference of the Clean Air Scientific Advisory Committee (CASAC) Ozone Review Panel (CASAC Panel) to review EPA's Final Review of the National Ambient Air Quality Standards for Ozone: Policy Assessment of Scientific and Technical Information in the December 27, 2006 Federal Register (71 FR 77742). The present notice moves the date of the subject meeting to Monday, March 5, 2007, from 1 to 5 p.m. (Eastern Time). Additional information regarding availability of meeting materials, procedures for providing public input, and accessibility are provided in the December 27, 2006 Federal Register, or from the DFO at the contact information provided above.

Dated: January 29, 2007.
Anthony F. Maciorowski,
Deputy Director, EPA Science Advisory Board Staff Office.

[FR Doc. E7-1791 Filed 2-2-07; 8:45 am]

BILLING CODE 6560-50-P